NATIONAL SCIENCE FOUNDATION

Proposal Review Panel for Physics; Notice of Meeting

In accordance with the Federal Advisory Committee Act (Pub. L. 92-463, as amended), the National Science Foundation announces the following meeting.

Name: LIGO Annual Review Site Visit at Hanford Observatory for Physics (1208).

Date and Time:

Wednesday, November 16, 2011; 8 a.m.-6:30 p.m.

Thursday, November 17, 2011; 8 a.m.-5:30 p.m.

Friday, November 18, 2011; 8 a.m.-11 a.m.

Place: LIGO site at Hanford, WA.

Type of Meeting: Partially Closed.

Contact Person: Thomas Carruthers, Program Director, Division of Physics, National Science Foundation, (703) 292-7373.

Purpose of Meeting: To provide an evaluation of the project construction for implementation of the AdvLIGO project to the National Science Foundation.

Agenda:

Wednesday, November 16, 2011

8 a.m.-8:15 a.m. Open—Sign In

8:45 a.m.-9:15 a.m. Closed—Executive Session

9:15 a.m.-11:45 a.m. Open—Welcome, LIGO status, Reporting Metrices

11:45 Lunch

12:45 p.m.-2:45 p.m. Open—S6 Science run, performance, risk reduction

3:15 p.m.-4:30 p.m. Data Management, LIGO Australia, LSC status

5 p.m. Closed—Executive Session

Thursday, November 17, 2011

8 a.m.-8:15 a.m. Open—Sign in

9 a.m.-10 a.m. Closed—Executive Session

10:15 a.m.-11:45 Open -Review of AdvLIGO MREFC, EPO, diversity

11:45 a.m. Lunch

12:45 p.m.-4:15 p.m. Open—Project discussions, tour

5 p.m. Closed—Executive Session

Friday, November 18, 2011

8 a.m.-10:30 a.m. Closed—Executive Session report writing

10:30 a.m.-11 a.m. Closed—Executive Session—closing address

Reason For Closing: The proposal contains proprietary or confidential material, including technical information on personnel. These matters are exempt under 5 U.S.C. 552b(c)(2)(4) and (6) of the Government in the Sunshine Act.

Dated: October 25, 2011.
Susanne Bolton,
Committee Management Officer.

[FR Doc. 2011-27902 Filed 10-27-11; 8:45 am]

BILLING CODE 7555-01-P